DEPARTMENT OF THE INTERIOR

National Park Service

Quarry Visitor Center, Draft Environmental Impact Statement, Dinosaur National Monument, Colorado and Utah

AGENCY: National Park Service, Department of the Interior.

ACTION: Notice of availability of the draft environmental impact statement for the quarry visitor center, dinosaur national monument.

SUMMARY: Pursuant to the National Environmental Policy Act of 1969, 42 U.S.C. 4332(c)(C), the National Park Service announces the availability of a Draft Environmental Impact Statement for the Quarry Visitor Center at Dinosaur National Monument, Colorado and Utah.

The Draft Environmental Impact Statement contains five alternatives.

Alternative A—No Action. The Quarry Visitor Center (QVC) was closed to the staff and public because of serious life safety issues caused by building instability on July 12, 2006. The QVC protected 1,500 dinosaur fossils in situ and provided access to the park's primary resource. The building would remain closed to the public; functions would remain displaced; and critical resources would be threatened.

Alternative B—Preferred Alternative—Rehabilitate the Exhibit Hall and Construct a New Facility Off-site. The existing exhibit hall would be rehabilitated to adequately protect fossil resources and provide access to the public. Currently displaced functions would be constructed at a location off-site that has stable soil.

Alternative C—Retain the Exhibit Hall and Construct a New Facility at the Quarry Visitor Center. The exhibit hall would be rehabilitated to protect fossil resources and provide access to the public, and the currently displaced functions would be reconstructed on the unstable soil that has caused building movement for more than 50 years.

Alternative D—Retain the Exhibit Hall and Construct Wings Similar. The exhibit hall would be rehabilitated to protect fossil resources and provide access to the public. The remaining portions of the building would be reconstructed in the original footprint and dysfunctional configuration on the unstable soil that has caused building movement for more than 50 years.

Alternative E—Demolish the Entire Facility and Construct a New Facility at the QVC Site. The entire building would be demolished and rebuilt on the unstable soil that has caused building movement for more than 50 years.

General Assumptions/Conditions that Apply to all Alternatives—Engineers and architects estimate that only 10% of the historic fabric could be used for any of the alternatives. All alternatives would result in reconstruction, which is not an approved treatment under the Secretary's guidelines. Thus, the National Historic Landmark designation cannot be preserved under any alternative.

DATES: The National Park Service will accept comments on the Draft Environmental Impact Statement from the public for 60 days from the date the Environmental Protection Agency publishes the Notice of Availability. No public meetings are scheduled at this time.

ADDRESSES: Information will be available for public review and comment online at http://parkplanning.nps.gov, in the office of the Superintendent, Mary Risser, 4545 E. Highway 40, Dinosaur, CO, (970) 374-3001 and the following locations: The Moffatt County Library, 570 Green St., Craig, CO 81625 and the Uintah County Library, 155 East Main, Vernal, UT 84078.

FOR FURTHER INFORMATION CONTACT: Mary Risser, 4545 E. Highway 40, Dinosaur, CO, (970) 374-3001, Mary_Risser@nps.gov.

SUPPLEMENTARY INFORMATION: If you wish to comment, you may submit your comments by any one of several methods. You may mail comments to Dinosaur National Monument Headquarters, 4545 E. Highway 40, Dinosaur, CO. You may also comment via the Internet at http://parkplanning.nps.gov. If you do not receive a confirmation from the system that we have received your Internet message, contact us directly at 970.374.3001. Finally, you may hand-deliver comments to the park headquarters at the above address. Before including your address, phone number, e-mail address, or other personal identifying information in your comment, you should be aware that your entire comment—including your personal identifying information—may be made publicly available at any time. While you can ask us in your comment to withhold your personal identifying information from public review, we cannot guarantee that we will be able to do so.

Dated: May 17, 2007.
Michael D. Snyder,
Director, Intermountain Region, National Park Service.

[FR Doc. 07-2689 Filed 5-30-07; 8:45 am]

BILLING CODE 4312-CR-M